NUCLEAR REGULATORY COMMISSION

[Docket No. 50-608; NRC-2013-0053]

Construction Permit Application for the SHINE Medical Radioisotope Production Facility

AGENCY: Nuclear Regulatory Commission.

ACTION: Draft environmental impact statement; public meetings and request for comment.

SUMMARY: The U.S. Nuclear Regulatory Commission (NRC) is issuing for public comment a draft Environmental Impact Statement (EIS) for the construction permit application submitted by SHINE Medical Technologies, Inc. (SHINE), for the SHINE Medical Radioisotope Production Facility (SHINE facility). The proposed SHINE facility would be located in Janesville, Wisconsin. Possible alternatives to the proposed action (issuance of the construction permit) include no action, reasonable alternative sites, and a reasonable alternative technology. The NRC staff plans to hold two public meetings during the public comment period to present an overview of the draft EIS and to accept public comments on the document.

DATES: Submit comments by July 6, 2015. Comments received after this date will be considered, if it is practical to do so but the Commission is able to ensure consideration only for comments received on or before this date.

ADDRESSES: You may submit comments by any of the following methods (unless this document describes a different method for submitting comments on a specific subject):

• Federal Rulemaking Web site: Go to http://www.regulations.gov and search for Docket ID NRC-2013-0053. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Michelle Moser, Office of Nuclear Reactor Regulation, telephone: 301-415-6509; email: Michelle.Moser@nrc.gov; U.S. Nuclear Regulatory Commission, Washington, DC 20555-0001.

SUPPLEMENTARY INFORMATION:

I. Obtaining Information and Submitting Comments

A. Obtaining Information

Please refer to Docket ID NRC-2013-0053 when contacting the NRC about the availability of information for this action. You may obtain publicly-available information related to this action by any of the following methods:

• Federal Rulemaking Web site: Go to http://www.regulations.gov and search for Docket ID NRC-2013-0053.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is referenced. The draft EIS for the Construction Permit for the proposed SHINE facility is available in ADAMS under Accession No. ML15127A241.

• NRC's PDR: You may examine and purchase copies of public documents at the NRC's PDR, Room O1-F21, One White Flint North, 11555 Rockville Pike, Rockville, Maryland 20852.

B. Submitting Comments

Please include Docket ID NRC-2013-0053 in the subject line of your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Discussion

The NRC is issuing for public comment a draft EIS for the construction permit for the proposed SHINE facility. This draft EIS includes the preliminary analysis that evaluates the environmental impacts of the proposed action and alternatives to the proposed action. The preliminary recommendation is that after weighing the environmental, economic, technical, and other benefits against environmental and other costs, and considering reasonable alternatives, the NRC staff recommends, the issuance of the requested construction permit to SHINE, unless safety issues mandate otherwise.

III. Public Meetings

The NRC staff will hold public meetings prior to the close of the public comment period to present an overview of the draft EIS for the proposed construction permit and to accept public comment on the document. Two meetings will be held on June 10, 2015, at the Rotary Botanical Gardens, 1455 Palmer Drive, Janesville, WI 53545. The first session will convene at 2:00 p.m. and will continue until 4:00 p.m., as necessary. The second session will convene at 7:00 p.m. and will continue until 9:00 p.m., as necessary. The meetings will be transcribed and will include: (1) A presentation of the contents of the draft EIS; and (2) the opportunity for interested government agencies, organizations, and individuals to provide comments on the draft EIS. Additionally, the NRC staff will host informal discussions one hour prior to the start of each session at the same location. No comments on the draft EIS will be accepted during the informal discussions. To be considered in the final EIS, comments must be provided either at the transcribed public meeting or submitted in writing by the comment deadline identified above. Persons may pre-register to attend or present oral comments at the meeting by contacting Ms. Michelle Moser, the NRC environmental project manager, at 1-800-368-5642, extension 6509, or by email at Michelle.Moser@nrc.gov no later than Friday, June 5, 2015. Members of the public may also register to provide oral comments within 15 minutes of the start of each session. Individual oral comments may be limited by the time available, depending on the number of persons who register. If special equipment or accommodations are needed to attend or present information at the public meeting, the need should be brought to Ms. Moser's attention no later than Tuesday, June 2, 2015, to provide the NRC staff adequate notice to determine whether the request can be accommodated.

Dated at Rockville, Maryland, this 8th day of May, 2015.
For the Nuclear Regulatory Commission.
David J. Wrona,
Chief, Environmental Review, and Guidance Branch, Division of License Renewal, Office of Nuclear Reactor Regulation.

[FR Doc. 2015-11668 Filed 5-13-15; 8:45 am]

BILLING CODE 7590-01-P